DEPARTMENT OF STATE

[Public Notice 3623]

Bureau of Educational and Cultural Affairs Request for Grant Proposals: Teaching Excellence Awards Program and Secondary School Excellence Program

SUMMARY: The Youth Programs Division, Office of Citizen Exchanges, of the Bureau of Educational and Cultural Affairs announces an open competition for the Teaching Excellence Award (TEA) program and the Secondary School Excellence Program (SSEP). Public and private non-profit organizations meeting the provisions described in IRS regulation 26 CFR 1.501(c) may submit proposals to conduct the sixth year of the TEA program of recognition for excellence in the fields of English and American studies at the primary and secondary levels of education in Armenia, Azerbaijan, Georgia, Kazakhstan, Kyrgyzstan, Russia, Tajikistan, Turkmenistan, Ukraine, and Uzbekistan and to conduct the fourth year of the SSEP, which facilitates institutional partnerships between schools in Armenia, Kazakhstan, Russia, Turkmenistan, Ukraine, and Uzbekistan and the United States. The total amount of funding available for this two-component program is $5,290,800.

PROGRAM INFORMATION:

Component I: Teaching Excellence Awards Program

Overview

The objective of the program is to select exemplary teachers in the ten participating countries through a merit-based competition and provide modest awards to them and their schools. The top national winners participate in a summer enrichment program in the United States.

The goals are (1) to give recognition to excellence in the teaching of English and American studies, (2) to promote innovation in teaching methodology in the New Independent States (NIS) of the former Soviet Union, and (3) to foster mutual understanding about the societies and educational systems of the U.S. and the ten participating NIS countries.

Background

The program was established in 1996. For the 1996-1997 program year, the teacher competition was conducted in Russia and Ukraine, and 900 educators were nominated, for which their schools received plaques. The competition culminated in the selection of 225 Russian and 75 Ukrainian regional winners of awards—$200 worth of education materials for the teachers and $2,000 worth of education equipment for their schools. Thirty Russian and 15 Ukrainian educators were selected as national winners and participated in a seven-week enrichment program in the U.S. Twenty American teachers were also selected from national excellence competitions who interacted with the NIS teachers and traveled to their countries for two-week programs. The program was repeated in 1997-1998 and expanded in the next two years to Kazakhstan, Kyrgyzstan, Turkmenistan and Uzbekistan. In 2000-2001, Armenia, Georgia, and Tajikistan are included, and Azerbaijan is added under the current solicitation.

Guidelines

Administration of the TEA program entails implementing the following activities:

(1) conducting a competition for selecting exemplary, innovative teachers of English and American Studies in Armenia, Azerbaijan, Georgia, Kazakhstan, Kyrgyzstan, Russia, Tajikistan, Turkmenistan, Ukraine, and Uzbekistan;

(2) providing publicity and awards of educational equipment and materials to them and their schools;

(3) selecting a portion of these educators as finalists to participate in a U.S.-based professional enrichment program;

(4) arranging a six- to eight-week summer professional enrichment program in the United States;

(5) recruiting and selecting American educators by merit, who will participate in the U.S. summer professional development program and in a two- to three-week program with counterparts in the NIS;

(6) supporting TEA alumni in follow-on activities; and

(7) evaluating and reporting on the program's process and results.

The organization that is awarded the grant to administer this program must have an infrastructure in the region under the close supervision of American nationals. The organization must have the ability to work closely with ministries of education and local educational and governmental authorities. It is essential that the competition be conducted as a high profile, merit-based process that encompasses all regions where it is feasible to elicit nominations. The competition should be broadly advertised to ensure that the maximum number possible of teachers and schools are made aware of it. A rigorous screening and selection process should be conducted; certain countries may have special conditions that affect the process. The awards for regional winners should include a range of books and other educational materials and equipment such as copiers, fax machines and computers, which will be for use by the winner's school. The grantee should arrange for a six- to eight-week enrichment program in the U.S. for the national winners designed to enhance teaching methodologies in English as a foreign language and American studies. The grantee must recruit American secondary school educators to participate in aspects of the summer enrichment program and travel to the NIS for two- to three-week programs based in the schools of the NIS national winners. Close collaboration with Public Affairs Section (PAS) officers at U.S. embassies and American English teaching specialists is required.

Component II: Secondary School Excellence Program

Overview

The Secondary School Excellence Program (SSEP) is designed to: (1) develop institutional linkages that serve the needs and interests of the participating schools and communities;

(2) support democracy and educational reform in the NIS; and

(3) advance mutual understanding between the youth and teachers of the U.S. and the NIS. This program is designed to offer continuity in the relationships developed between educators in the Teaching Excellence Awards program.

The program is designed to foster interaction and long lasting relationships between secondary schools in the United States and Armenia, Kazakhstan, Russia, Turkmenistan, Ukraine, and Uzbekistan. All projects must have both student and educator exchange components and must have planned project activity between the partner schools.

Background

The SSEP was started in 1998 to provide follow-on activities for the schools of the teachers who participated in the TEA program by linking their institutions in the U.S. and NIS. Through these school linkages, both students and educators at each school could work together on joint projects, participate in reciprocal exchange and hosting programs, and help deepen the relationships and reforms started under TEA. The incumbent has recruited, screened, and selected schools in all of the participating countries, provided orientations for school coordinators, and supported both the logistical and programmatic components of each school partnership. Each year, the program has supported 20 to 24 partnerships and between 440 and 520 participants. The SSEP has been expanded to follow the growth of the TEA program where funding has been available for each country. With this grant, the program will be available in the countries of Armenia and Turkmenistan for the first time.

Guidelines

Administration of the SSEP entails implementing the following activities:

(1) conducting a competition for the schools of TEA winners in the United States, Armenia, Kazakhstan, Russia, Turkmenistan, Ukraine, and Uzbekistan to participate in one-to-one school partnerships;

(2) arranging workshops, preparing briefing materials, and providing advice to guide coordinators at each school in their preparations for and implementation of the school partnership project and exchanges;

(3) providing logistical support for each delegation's travel to its partner school;

(4) overseeing merit-based selection processes for all participants and ensuring transparency and credibility;

(5) supporting the schools in their academic activities and joint project as needed; and

(6) evaluating and reporting on the partnerships.

Another component of the SSEP, new this year, is the establishment of a fund of $50,000 for special projects developed by TEA alumni. The grant recipient, in partnership with ECA, will invite and consider proposals from TEA alumni to conduct special projects that serve as follow-on to their TEA experience, but do not fit the school partnership model. Please refer to the POGI for further guidance.

The organization that is awarded the grant to administer this program must be able to select the participating schools through a merit-based process, inviting all eligible TEA schools to apply. In the event that there is not a sufficient number of TEA schools in the United States prepared to participate, the grantee organization may draw on secondary schools known to the organization through other networks. A screening committee will be assembled to review applications and select as many schools as can be supported with the available funding for each country. Preference will be given to schools that have continuing partnerships, not to exceed three years of support under this program. Some schools' applications may express preference for a specific partner school; those that do not will be matched with an appropriate partner through a rationale to be declared by the applicant.

The grantee is responsible for conducting all activities directly or under sub-contracts. Programs must comply with J-1 visa regulations. Please refer to the Solicitation Package for further information.

Dates of Grant Activity

Grants should begin on or about July 1, 2001, and conclude about two years later, or as needed to complete activity. The exact starting date of the grant will be dependent on the availability of funds.

For TEA, the competition should be conducted in the fall of 2001; awards should be made in the spring of 2002; the enrichment program should take place in the summer of 2002; the American participants should travel to the NIS in the fall of 2002.

For SSEP, participating schools should conduct their exchanges in either a Spring 2002/Fall 2002 cycle or the Fall 2002/Spring 2003 school year.

Budget Guidelines

The Bureau anticipates awarding one grant for an amount not to exceed $5,290,800 to support the program and administrative costs required to implement this program. The Bureau encourages applicants to provide maximum levels of cost-sharing and funding from private sources in support of its programs. Organizations with less than four years of experience in conducting international exchange programs are not eligible for this competition.

Applicants must submit a comprehensive budget for the entire program. There must be a summary budget as well as breakdowns reflecting both administrative and program budgets. Applicants should provide separate sub-budgets for each program component, phase, location, or activity to provide clarification.

Funding levels for the two program components must adhere to the following maximum amounts and to the country allocations provided in the POGI.

TEA—$4,281,800

SSEP—$1,009,000

The Bureau reserves the right to reduce, revise, or increase proposal budgets in accordance with the needs of the program and availability of funds. The participating countries may be subject to change pending final allocations and applicants may be requested to include more or fewer countries in the NIS region.

Please refer to the Solicitation Package for complete budget guidelines and formatting instructions.

Announcement Title and Number

All correspondence with the Bureau concerning this RFGP should reference the above title and number ECA/PE/C/PY-01-42.

FOR FURTHER INFORMATION CONTACT: The Youth Programs Division, Office of Citizen Exchanges, ECA/PE/C/PY, Room 568, U.S. Department of State, 301 4th Street, S.W., Washington, D.C. 20547, (202) 619-6299, Fax (202) 619-5311, E-mail: jgreene@pd.state.gov or clantz@pd.state.gov to request a Solicitation Package. The Solicitation Package contains detailed award criteria, required application forms, specific budget instructions, and standard guidelines for proposal preparation. Please specify Bureau program officer Jocelyn Greene (TEA) or Carolyn Lantz (SSEP) on all other inquiries and correspondence.

Please read the complete Federal Register announcement before sending inquiries or submitting proposals. Once the RFGP deadline has passed, Bureau staff may not discuss this competition with applicants until the proposal review process has been completed.

To Download a Solicitation Package Via Internet

The entire Solicitation Package may be downloaded from the Bureau's website at http://exchanges.state.gov/education/RFGPs. Please read all information before downloading.

Deadline for Proposals

All proposal copies must be received at the Bureau of Educational and Cultural Affairs by 5:00 p.m. Washington, D.C. time on Friday, May 11, 2001. Faxed documents will not be accepted at any time. Documents postmarked the due date but received on a later date will not be accepted. Each applicant must ensure that the proposals are received by the above deadline.

Applicants must follow all instructions in the Solicitation Package. The original and seven copies of the application should be sent to: U.S. Department of State, Bureau of Educational and Cultural Affairs, Ref.: ECA/PE/C/PY-01-42, Program Management, ECA/EX/PM, Room 534, 301 4th Street, S.W., Washington, D.C. 20547.

Applicants must also submit the “Executive Summary” and “Proposal Narrative” sections of the proposal on a 3.5” diskette, formatted for DOS. These documents must be provided in ASCII text (DOS) format with a maximum line length of 65 characters. The Bureau will transmit these files electronically to the Public Affairs section at the US Embassy for its review, with the goal of reducing the time it takes to get embassy comments for the Bureau's grants review process.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the “Support for Diversity” section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Review Process

The Bureau will acknowledge receipt of all proposals and will review them for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards resides with the Bureau's Grants Officer.

Review Criteria

Technically eligible applications will be competitively reviewed according to the criteria stated below. These criteria are not rank ordered and all carry equal weight in the proposal evaluation:

1. Quality of the program idea: Proposals should exhibit originality, substance, precision, and relevance to the Bureau's mission.

2. Program planning: Detailed agenda and relevant work plan should demonstrate substantive undertakings and logistical capacity. Agenda and plan should adhere to the program overview and guidelines described above.

3. Ability to achieve program objectives: Objectives should be reasonable, feasible, and flexible. Proposals should clearly demonstrate how the institution will meet the program's objectives and plan.

4. Multiplier effect/impact: Proposed programs should strengthen long-term mutual understanding, including maximum sharing of information and establishment of long-term institutional and individual linkages.

5. Support of Diversity: Proposals should demonstrate substantive support of the Bureau's policy on diversity. Achievable and relevant features should be cited in both program administration (selection of participants, program venue and program evaluation) and program content (orientation and wrap-up sessions, program meetings, resource materials and follow-up activities).

6. Institutional Capacity: Proposed personnel and institutional resources should be adequate and appropriate to achieve the program or project's goals.

7. Institution's Record/Ability: Proposals should demonstrate an institutional record of successful exchange programs, including responsible fiscal management and full compliance with all reporting requirements for past Bureau grants as determined by Bureau Grant Staff. The Bureau will consider the past performance of prior recipients and the demonstrated potential of new applicants.

8. Follow-on Activities: Proposals should provide a plan for continued follow-on activity (without Bureau support) ensuring that Bureau supported programs are not isolated events.

9. Project Evaluation: Proposals should include a plan to evaluate the activity's success, both as the activities unfold and at the end of the program. A draft survey questionnaire or other technique plus description of a methodology to use to link outcomes to original project objectives are recommended. Successful applicants will be expected to submit intermediate reports after each project component is concluded.

10. Cost-effectiveness: The overhead and administrative components of the proposal, including salaries and honoraria, should be kept as low as possible. All other items should be necessary and appropriate.

11. Cost-sharing: Proposals should maximize cost-sharing through other private sector support as well as institutional direct funding contributions.

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations. * * * and thus to assist in the development of friendly, sympathetic and peaceful relations between the United States and the other countries of the world.” The funding authority for the program above is provided through the FREEDOM Support Act of 1992.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: March 21, 2001.
Helena Kane Finn,
Acting Assistant Secretary For Educational and Cultural Affairs, Department of State.

[FR Doc. 01-7795 Filed 3-28-01; 8:45 am]

BILLING CODE 4710-05-P